DEPARTMENT OF TRANSPORTATION

Federal Highway Administration

Environmental Assessment: Notice of Final Federal Actions on Improvements to U.S. 60 in Union and Henderson Counties, KY

AGENCY: Federal Highway Administration (FHWA), DOT.

ACTION: Notice of limitations on claims for judicial review of actions by FHWA, Army Corps of Engineers (USACE), DoD, and other Federal agencies.

SUMMARY: This notice announces actions taken by the FHWA that are final within the meaning of 23 U.S.C. 139(1)(1). The actions relate to a proposed highway project: the U.S. 60 Capacity and Safety Improvement Project between Morganfield and Henderson in Union and Henderson Counties, Kentucky (KYTC Item Nos. 2-79, 2-122, 2-123).

DATES: By this notice, the FHWA is advising the public of final actions subject to 23 U.S.C. 139(1)(1). A claim seeking judicial review of the Federal agency actions taken on the highway project will be barred unless the claim is filed on or before November 21, 2012. If the Federal law that authorizes judicial review of the a claim provides a time period of less than 180 for filing such claim, then that shorter time period still applies.

FOR FURTHER INFORMATION CONTACT: For FHWA: Mr. Anthony Goodman, Environmental Specialist, Federal Highway Administration, Kentucky Division; 330 West Broadway, Frankfort, Kentucky, 40601; normal business hours Monday-Friday, 8 a.m.-4:30 p.m. Eastern Standard Time; Phone 502-223-6742, Email Anthony.Goodman@dot.gov. For KYTC: Mr. David Waldner, P.E., Director, Division of Environmental Analysis, Kentucky Transportation Cabinet; 200 Mero Street, 5th Floor, Frankfort, Kentucky 40622; regular business hours Monday-Friday, 8 a.m.-4:30 p.m. Eastern Standard Time; Phone 502-564-5655, Email: David.Waldner@ky.gov.

SUPPLEMENTARY INFORMATION: Notice is hereby given that the FHWA has taken final agency actions subject to 23 U.S.C. 139(0)(1) by issuing licenses, permits, and approvals for the following highway project in the State of Kentucky: The U.S. 60 Capacity and Safety Improvement project involves widening U.S. 60 to the north of the existing roadway between Morganfield and KY 141 (South) in Waverly, a bypass around the south side of Waverly and widening U.S. 60 between Waverly and Highland Creek. At the Highland Creek crossing the project extends northeast on new alignment bypassing Corydon to the west, reconnecting with existing U.S. 60 to widen the remaining 3.7 miles terminating at KY 425, the Henderson Bypass. The roadway will be four lanes with a forty foot depressed grass median with twelve foot outside shoulders and six foot inside shoulders. The purpose of the project is to meet the transportation demands and capacity needs necessary to make the U.S. 60 highway corridor in the area function effectively, and to address safety concerns. The study area is between the cities of Morganfield and Henderson, in Union and Henderson Counties, and U.S. 60 is the only major east-west corridor in this portion of the state.

The actions by the Federal agencies, and the laws under which such actions were taken, are described in the Finding of No Significant Impact (FONSI) for the project, approved on April 9, 2012 (FHWA) and March 22, 2012 (KYTC); and in other documents in the FHWA project records. The Environmental Assessment and FONSI, and other project records are available by contacting FHWA or KYTC at the addresses provided above.

This notice applies to all Federal agency decisions as of the issuance date of this notice and all laws under which such actions were taken, including but not limited to the following:

1. General: National Environmental Policy Act (NEPA) [42 U.S.C. 4321-4351]; Federal-Aid Highway Act [23 U.S.C. 109 and 23 U.S.C. 128]; Public Hearing [23 U.S.C. 128].

2. Air: Clean Air Act [42 U.S.C. 7401-7671(q)].

3. Wildlife: Endangered Species Act [16 U.S.C. 1531-1544].

4. Historic and Cultural Resources: Section 106 of the National Historic Preservation Act of 1966, as amended [16 U.S.C. 470(f) et seq.]; Archeological Resources Protection Act of 1977 [16 U.S.C. 470(aa)-470(11)]; Archeological and Historic Preservation Act [16 U.S.C. 469469(c)].

5. Land: Section 4(f) of The Department of Transportation Act: 23 U.S.C. 138, 49 U.S.C. 303; Farmland Protection Policy Act (FPPA) [7 U.S.C. 4201-4209].

6. Social and Economic: Civil Rights Act of 1964 [42 U.S.C. 2000(d)-2000(d)(1)]; Uniform Relocation Assistance and Real Property Acquisition Act of 1970 (42 U.S.C. 4601 et seq., Pub. L. 91-646) as amended by the Uniform Relocation Act Amendments of 1987 (Pub. L. 100-17); Executive Order 12898, Federal Actions to Address Environmental Justice in Minority Populations and Low Income Populations, February 11, 1994.

(Catalog of Federal Domestic Assistance Program Number 20.205, Highway Planning and Construction. The regulations implementing Executive Order 12372 regarding intergovernmental consultation on Federal programs and activities apply to this program.)

Authority: 23 U.S.C. 315; 23 CFR 771.123; 49 CFR 1.48

Issued on: May 22, 2012.
John D. Ballantyne,
Program Delivery Team Leader, Federal Highway Administration.

Frankfort, Kentucky

[FR Doc. 2012-13030 Filed 5-30-12; 8:45 am]

BILLING CODE 4910-22-M